POSTAL REGULATORY COMMISSION

[Docket No. MC2022-20; Order No. 6040]

Mail Classification Schedule

AGENCY: Postal Regulatory Commission.

ACTION: Notice.

SUMMARY: The Commission is recognizing a recent Postal Service filing requesting the conversion of the experimental product offering Plus One into a permanent product offering on the Mail Classification Schedule. This notice informs the public of the filing, invites public comment, and takes other administrative steps.

DATES: Comments are due: December 7, 2021.

ADDRESSES: Submit comments electronically via the Commission's Filing Online system at http://www.prc.gov. Those who cannot submit comments electronically should contact the person identified in the FOR FURTHER INFORMATION CONTACT section by telephone for advice on filing alternatives.

FOR FURTHER INFORMATION CONTACT: David A. Trissell, General Counsel, at 202-789-6820.

SUPPLEMENTARY INFORMATION:

Table of Contents

I. Introduction

II. Commission Action

III. Ordering Paragraphs

I. Introduction

On November 10, 2021, the Postal Service filed a request with the Commission pursuant to 39 U.S.C. 3642 and 39 CFR 3045.18 to convert the experimental product offering Plus One into a permanent product offering on the Mail Classification Schedule.¹ In support of its Request, the Postal Service filed the following documents:

¹ United States Postal Service Request to Convert Plus One to a Permanent Offering, November 10, 2021 (Request).

• Attachment A to the Request—Proposed Changes to Mail Classification Schedule;

• Attachment B to the Request—Redacted Market Test Quarterly Data Collection Reports; ² and

² The Postal Service refiled under seal in Docket No. MC2022-20 all of the non-public data collection reports pertaining to the market test, which were previously filed under seal on a quarterly basis in Docket No. MT2019-1, and requested continued non-public treatment of this material. See Request at 4.

• Attachment C to the Request—Resolution of the Governors of the United States Postal Service to Request Conversion of Plus One Market Test Into a Permanent Offering.

See Request at 3-5.

The Plus One market test was initially authorized by the Commission on September 20, 2019, and was extended on June 4, 2021.³ It is currently set to expire on September 30, 2022. Order No. 5909 at 12. Plus One is an advertising card mailed as an add-on mailpiece with a USPS Marketing Mail Letters marriage mail envelope containing multiple advertising mailpieces. Order No. 5239 at 1. The Postal Service asserts that the Plus One market test has proven successful, and the Postal Service now wishes to insert the Plus One product offering into the Mail Classification Schedule under section 1205.5 (Market Dominant Products: USPS Marketing Mail (Commercial and Nonprofit): High Density and Saturation Letters: Optional Features). Request at 1. The Postal Service maintains that the Plus One product meets all the conditions in 39 U.S.C. 3642 and 39 CFR 3045.18 for adding a non-experimental product based on an experimental product to the product list. Request at 2-5. The Postal Service also, as required by 39 CFR 3045.18(e), filed a separate notice of the instant request in Docket No. MT2019-1.⁴ The planned rate to add each Plus One card to the host marriage mailing (a Saturation Letter) is $0.10. Request at 3.

³ Docket No. MT2019-1, Order Authorizing Plus One Market Test, September 20, 2019 (Order No. 5239); Order Authorizing Extension of Plus One Market Test, June 4, 2021 (Order No. 5909).

⁴ Docket No. MT2019-1, United States Postal Service Notice of Request to Convert Plus One to Permanent Offering, November 10, 2021.

II. Commission Action

The Commission establishes Docket No. MC2022-20 to consider the Postal Service's Request. Interested persons may submit comments on whether the Request is consistent with the policies of 39 U.S.C. 3642 and 39 CFR 3045.18. Comments are due by December 7, 2021.

The Request and related filings are available on the Commission's website (http://www.prc.gov). The Commission encourages interested persons to review the Request for further details.

The Commission appoints Gregory S. Stanton to serve as Public Representative in this proceeding.

III. Ordering Paragraphs

It is ordered:

1. The Commission establishes Docket No. MC2022-20 for consideration of the United States Postal Service Request to Convert Plus One to a Permanent Offering, filed November 10, 2021.

2. Pursuant to 39 U.S.C. 505, Gregory S. Stanton is appointed to serve as an officer of the Commission (Public Representative) to represent the interests of the general public in this proceeding.

3. Comments by interested persons are due by December 7, 2021.

4. The Secretary shall arrange for publication of this Order in the Federal Register.

By the Commission.
Erica A. Barker,
Secretary.

[FR Doc. 2021-25347 Filed 11-19-21; 8:45 am]

BILLING CODE 7710-FW-P